DEPARTMENT OF JUSTICE

Notice of Lodging of Consent Decree Pursuant to the Clean Water Act

In accordance with 28 CFR 50.7, 38 Fed. Reg. 19029, notice is hereby given that on April 30, 2002, a Consent Decree was lodged with the United States District Court for the District of Massachusetts in United States v. Town of Winchendon, Massachusetts, Civil Action No. 02-10777. A compliant in the action was also filed simultaneously with the lodging of the Consent Decree. In the complaint the United States, on behalf of the U.S. Environmental Protection Agency (EPA), alleges that the defendant Town of Winchendon (the Town) violated the Clean Water Act, 33 U.S.C. 1251, et seq., in the operation of its publicly-owned system to collect and treat sanitary sewage and industrial waste water. The violations involve EPA requirements for control of waste water discharges and discharges of pollutants; requirements of the Town's federal and state pollutant discharge permits; and discharge of untreated waste water into navigable waters. The consent decree requires the Town of pay a civil penalty of $45,000 ($30,000 to the federal government and $15,000 to the Commonwealth of Massachusetts), and to comply with relevant environmental laws by upgrading and repairing its publicly-owned treatment works and sewer system.

The Department of Justice will receive comments relating to the proposed Consent Decree for a period of thirty (30) days from the date of this publication. Comments should be addressed to the Assistant Attorney General, Environment and Natural Resources Division, Department of Justice, PO Box 7611, Washington, DC 20044, and should refer to United States v. Town of Winchendon, Massachusetts, DOJ #90-5-1-1-07490.

The proposed consent decree may be examined at the office of the United States Attorney, Suite 9200, 1 Courthouse Way, Boston, Massachusetts 02110, and at the Region I office of the Environmental Protection Agency, One Congress Street, Suite 1100, Boston, Massachusetts 02114. A copy of the proposed consent decree may also be obtained by mail from the Department of Justice Consent Decree Library, PO Box 7611, Washington, DC 20044. In requesting a copy, please enclose a check (there is a 25 cent per page reproduction cost) in the amount of $9.50 payable to the “U.S. Treasury.”

Ronald G. Gluck,
Assistant Chief, Environmental Enforcement Section, Environment & Natural Resources Division.

[FR Doc. 02-12199 Filed 5-15-02; 8:45 am]

BILLING CODE 4410-15-M